DEPARTMENT OF HEALTH AND HUMAN SERVICES

Administration for Children and Families

State Median Income Estimates for Four-Person Families (FY 2001); Notice of the Fiscal Year (FY) 2001 State Median Income Estimates for Use Under the Low Income Home Energy Assistance Program (LIHEAP) Administered by the Administration for Children and Families, Office of Community Services, Division of Energy Assistance

AGENCY: Office of Community Services, ACF, DHHS.

ACTION: Notice of estimated state median income for FY 2001.

SUMMARY: This notice announces the estimated median income for four-person families in each State and the District of Columbia for FY 2001 (October 1, 2000 to September 30, 2001). LIHEAP grantees may adopt the State median income estimates beginning with the date of this publication of the estimates in the Federal Register or at a later date as discussed below. This means that LIHEAP grantees could choose to implement this notice during the period between the heating and cooling seasons. However, by October 1, 2000, or by the beginning of a grantee's fiscal year, whichever is later, LIHEAP grantees using State median income estimates must adjust their income eligibility criteria to be in accord with the FY 2001 State median income estimates.

This listing of estimated State median incomes concerns maximum income levels for households to which LIHEAP grantees may make payments under LIHEAP.

EFFECTIVE DATE: The estimates are effective at any time between the date of this publication and October 1, 2000, or by the beginning of a LIHEAP grantee's fiscal year, whichever is later.

FOR FURTHER INFORMATION CONTACT: Leon Litow, Administration for Children and Families, HHS, Office of Community Services, Division of Energy Assistance, 5th Floor West, 370 L'Enfant Promenade, SW., Washington, DC 20447, Telephone: (202) 401-5304, Internet E-Mail: llitow@acf.dhhs.gov.

SUPPLEMENTARY INFORMATION: Under the provisions of section 2603(7) of Title XXVI of the Omnibus Budget Reconciliation Act of 1981 (Pub. L. 97-35, as amended), we are announcing the estimated median income of a four-person family for each state, the District of Columbia, and the United States for FY 2001 (the period of October 1, 2000, through September 30, 2001).

Section 2605(b)(2)(B)(ii) of the LIHEAP statute provides that 60 percent of the median income for each state, as annually established by the Secretary of the Department of Health and Human Services, is one of the income criteria that LIHEAP grantees may use in determining a household's eligibility for LIHEAP.

LIHEAP is currently authorized through the end of FY 2004 by the Coats Human Services Reauthorization Act of 1998, Pub. L. 105-285, which was enacted on October 27, 1998.

Estimates of the median income of four-person families for each State and the District of Columbia for FY 2001 have been developed by the Bureau of the Census of the U.S. Department of Commerce, using the most recently available income data. In developing the median income estimates for FY 2001, the Bureau of the Census used the following three sources of data: (1) The March 1999 Current Population Survey; (2) the 1990 Decennial Census of Population; and (3) 1998 per capita personal income estimates, by state, from the Bureau of Economic Analysis of the U.S. Department of Commerce.

Like the estimates for FY 2000, the FY 2001 estimates include income estimates from the March Current Population Survey that are based on population controls from the 1990 Decennial Census of Population. Income estimates prior to FY 1996 from the March Current Population Survey had been based on population controls from the 1980 Decennial Census of Population. Generally, the use of 1990 population controls results in somewhat lower estimates of income.

For further information on the estimating method and data sources, contact the Housing and Household Economic Statistics Division, at the Bureau of the Census (301-457-3243).

A state-by-state listing of median income, and 60 percent of median income, for a four-person family for FY 2001 follows. The listing describes the method for adjusting median income for families of different sizes as specified in regulations applicable to LIHEAP, at 45 CFR 96.85(b), which was published in the Federal Register on March 3, 1988 at 53 FR 6824.

Dated: March 1, 2001.
Robert Mott,
Acting Director, Office of Community Services.

Estimated State Median Income for 4-Person Families, by State, Fiscal Year 2001 ¹
States | Estimated state median income 4-person families ² | 60 percent of estimated state median income 4-person families
Alabama | $51,156 | $30,694
Alaska | 59,726 | 35,836
Arizona | 49,397 | 29,638
Arkansas | 44,471 | 26,683
California | 55,209 | 33,125
Colorado | 63,428 | 38,057
Connecticut | 75,534 | 45,320
Delaware | 65,157 | 39,094
District of Col. | 60,674 | 36,404
Florida | 52,581 | 31,549
Georgia | 55,989 | 33,593
Hawaii | 61,838 | 37,103
Idaho | 49,174 | 29,504
Illinois | 61,672 | 37,003
Indiana | 55,284 | 33,170
Iowa | 53,230 | 31,938
Kansas | 55,341 | 33,205
Kentucky | 49,108 | 29,465
Louisiana | 49,037 | 29,422
Maine | 51,059 | 30,635
Maryland | 71,404 | 42,842
Massachusetts | 68,958 | 41,375
Michigan | 59,019 | 35,411
Minnesota | 67,140 | 40,284
Mississippi | 43,907 | 26,344
Missouri | 54,190 | 32,514
Montana | 44,737 | 26,842
Nebraska | 56,692 | 34,015
Nevada | 53,054 | 31,832
New Hampshire | 61,014 | 36,608
New Jersey | 70,983 | 42,590
New Mexico | 43,829 | 26,297
New York | 57,142 | 34,285
North Carolina | 54,331 | 32,599
North Dakota | 51,002 | 30,601
Ohio | 60,169 | 36,101
Oklahoma | 47,436 | 28,462
Oregon | 55,892 | 33,535
Pennsylvania | 58,507 | 35,104
Rhode Island | 62,339 | 37,403
South Carolina | 52,111 | 31,267
South Dakota | 49,702 | 29,821
Tennessee | 50,310 | 30,186
Texas | 51,148 | 30,689
Utah | 54,946 | 32,968
Vermont | 53,691 | 32,215
Virginia | 60,860 | 36,516
Washington | 61,059 | 36,635
West Virginia | 43,239 | 25,943
Wisconsin | 57,890 | 34,734
Wyoming | 50,989 | 30,593
Note—FY 2001 covers the period of October 1, 2000 through September 30, 2001. The estimated median income for 4-person families living in the United States is $56,061 for FY 2001. The estimates are effective for the Low Income Home Energy Assistance Program (LIHEAP) at any time between the date of this publication and October 1, 2000, or by the beginning of a LIHEAP grantee's fiscal year, whichever is later.
¹ In accordance with 45 CFR 96.85, each State's estimated median income for a 4-person family is multiplied by the following percentages to adjust for family size: 52% for one person, 68% for two persons, 84% for three persons, 100% for four persons, 116% for five persons, and 132% for six persons. For family sizes greater than six persons, add 3% for each additional family member and multiply the new percentage by the State's estimated median income for a 4-person family.
² Prepared by the Bureau of the Census from the March 1999 Current Population Survey, 1990 Decennial Census of Population and Housing, and 1998 per capita personal income estimates, by state, from the Bureau of Economic Analysis (BEA). In 1999, BEA revised its methodology in estimating per capita personal income estimates. BEA's revised methodology is reflected in the FY 2002 state 4-person family median income estimates. For further information, contact the Housing and Household Economic Statistics Division at the Bureau of the Census (301-457-3242).

[FR Doc. 01-5536 Filed 3-6-01; 8:45 am]

BILLING CODE 4184-01-P